DEPARTMENT OF THE INTERIOR

Fish and Wildlife Service

[FWS-R9-IA-2012-N096: FXIA16710900000P5-123-FF09A30000]

Wild Bird Conservation Act; Receipt of Application for Approval of a Cooperative Breeding Program

AGENCY: Fish and Wildlife Service, Interior.

ACTION: Notice of receipt of application for approval; request for comment.

SUMMARY: The public is invited to comment on the following application for approval to conduct certain activities with birds that are protected in accordance with the Wild Bird Conservation Act of 1992 (WBCA).

DATES: Written data, comments, or requests for a copy of this application must be received by May 29, 2012.

ADDRESSES: Documents and other information submitted with this application are available for review, subject to the requirements of the Privacy Act and Freedom of Information Act, by any party who submits a written request for a copy of such documents within 30 days of the date of publication of this notice to: Chief, U.S. Fish and Wildlife Service, Division of Management Authority, 4401 North Fairfax Drive, Room 212, Arlington, VA 22203; fax: 703-358-2298.

FOR FURTHER INFORMATION CONTACT: Craig Hoover, Chief, Branch of Operations, Division of Management Authority, at 703-358-2104.

SUPPLEMENTARY INFORMATION: The purpose of the WBCA (16 U.S.C. 4901 et seq.) is to ensure that the market in the United States for exotic bird species does not cause harm to the wild populations of those species. With a few exceptions, the WBCA prohibits the import of bird species included in the Appendices to the Convention on International Trade in Endangered Species of Wild Fauna and Flora (CITES). Under the WBCA, we, the U.S. Fish and Wildlife Service, issue permits for import of listed birds for scientific research, zoological breeding or display programs, or personal pet purposes, when the applicant meets certain criteria. We also may approve cooperative breeding programs of listed birds, and subsequent import permits under such breeding programs.

The public is invited to comment on the following application for approval to establish a cooperative breeding program under the WBCA. This notice is provided pursuant to the WBCA and its implementing regulations in the Code of Federal Regulations (CFR) at 50 CFR 15.26. Written data, comments, or requests for copies of this complete application should be submitted to the Chief (address above).

Applicant: Mac Embury, Grants Pass, OR

The applicant wishes to establish a cooperative breeding program for Black Sparrowhawk (Accipiter melanoleucus), Steppe Eagle (Aquila nipalensis), Eurasian Eagle Owl (Bubo bubo), Saker Falcon (Falco cherrug), African Fish-eagle (Haliaeetus vocifer), and Southern White-faced Owl (Ptilopsis granti). The applicant wishes to be an active participant in this program along with three other individuals. If approved, the program will be overseen by the Oregon Falconers Association.

Before including your address, phone number, email address, or other personal identifying information in your comment, you should be aware that your entire comment—including your personal identifying information—may be made publicly available at any time. While you can ask us in your comment to withhold your personal identifying information from public review, we cannot guarantee that we will be able to do so.

Dated: April 17, 2012.
Laura Noguchi,
Acting Chief, Branch of Operations, Division of Management Authority.

[FR Doc. 2012-10232 Filed 4-26-12; 8:45 am]

BILLING CODE 4310-55-P